ENVIRONMENTAL PROTECTION AGENCY

[EPA-HQ-OPP-2010-0014; FRL-9943-68]

Notice of Receipt of Requests To Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by registrants to voluntarily cancel and amend pesticide registrations. The amendment request also would delete one glyphosate use on seed production of creeping bentgrass with a Roundup Ready Gene. EPA intends to grant these requests at the close of the comment period for this announcement unless the Agency receives substantive comments within the comment period that would merit its further review of the requests, or unless the registrants withdraw their requests. If these requests are granted, any sale, distribution, or use of products listed in this notice will be permitted after the registrations have been cancelled only if such sale, distribution, or use is consistent with the terms as described in the final order.

DATES: Comments must be received on or before December 5, 2016.

ADDRESSES: Submit your comments, identified by docket identification (ID) number EPA-HQ-OPP-2010-0014, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

Submit written withdrawal request by mail to: Pesticide Re-Evaluation Division (7508P), Office of Pesticide Programs, Environmental Protection Agency, 1200 Pennsylvania Ave. NW., Washington, DC 20460-0001. Attention: Miguel Zavala.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Miguel Zavala, Pesticide Re-Evaluation Division (7508P), Office of Pesticide Programs, Environmental Protection Agency, 1200 Pennsylvania Ave. NW., Washington, DC 20460-0001; telephone number: (703) 347-0504; email address: zavala.miguel@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by EPA of requests from registrants and stakeholders to cancel and delete certain product registrations and amend certain uses of the chemicals listed in Unit II., Tables 1 and 2, registered under FIFRA section 3 (7 U.S.C. 136a) or 24(c) (7 U.S.C. 136v(c)). These registrations are listed in sequence by registration number (or company number and 24(c) number).

Unless a request is withdrawn by the registrant or if the Agency determines that there are substantive comments that warrant further review of this request, EPA intends to issue an order canceling and amending the affected registrations.

Table 1—Product Registrations With Pending Requests for Cancellation
Registration No. | Product name | Active ingredient
100-1244 | Banner Dry Maxx | Propiconazole.
3525-71 | Utikem Black Algae Killer | Poly(oxy-1,2-ethanediyl(dimethylimino)-1,2-ethanediyl(dimethylimino)-1,2-ethanediyl dichloride).
3525-91 | Coastal Mind Disinfectant | Alkyl* dimethyl benzyl ammonium chloride *(58%C14, 28%C16, 14%C12).
3525-96 | Jolt Pool Shock Treatment for Control of Algae | Lithium hypochlorite.
3525-109 | Algaecide & Pool Conditioner | Poly(oxy-1,2-ethanediyl(dimethylimino)-1,2-ethanediyl(dimethylimino)-1,2-ethanediyl dichloride).
9198-205 | Andersons Golf Products Turf Enhancer 2SC | Paclobutrazol.
10324-56 | Maquat 256 | Alkyl* dimethyl benzyl ammonium chloride *(60%C14, 30%C16, 5%C18, 5%C12) and Alkyl* dimethyl ethylbenzyl ammonium chloride *(68%C12, 32%C14).
35935-41 | Dithiopyr Technical | Dithiopyr.
35935-49 | Dynamo Dithiopyr Technical | Dithiopyr.
35935-75 | Dithiopyr Technical | Dithiopyr.
53883-207 | Dithiopyr 0.13% Plus Fertilizer | Dithiopyr.
53883-208 | Dithiopyr 0.25% Plus Fertilizer | Dithiopyr.
53883-209 | Dithiopyr 0.172% Plus Fertilizer | Dithiopyr.
53883-210 | Dithiopyr 0.107% Plus Fertilizer | Dithiopyr.
53883-211 | Dithiopyr 0.06% Plus Fertilizer | Dithiopyr.
53883-212 | Dithiopyr 0.086% Plus Fertilizer | Dithiopyr.
53883-213 | Dithiopyr 0.1% Plus Fertilizer | Dithiopyr.
53883-268 | Dithiopyr Concentrate for Fertilizer | Dithiopyr.
53883-311 | Quali-Pro Dithiopyr 2L | Dithiopyr.
66222-143 | Alias 4F Flowable Insecticide | Imidacloprid.
81002-1 | Chlorine Free Splashes Algicide | Dialkyl* methyl benzyl ammonium chloride *(60% C14, 30% C16, 5% C18, 5% C12) and Alkyl* dimethyl benzyl ammonium chloride *(60%C14, 30%C16, 5%C18, 5%C12).
AZ-080006 | Brigade 2EC Insecticide/Miticide | Bifenthrin.
CA-030012 | Clinch Ant Bait | Abamectin.
MA-080001 | Dupont Manzate Pro-Stick Fungicide | Mancozeb.
ND-110002 | Moncut 70-DF | Flutolanil.
ND-130003 | F7583-3 Herbicide | S-Metolachlor and Sulfentrazone.
OR-100003 | TOPSIN M WSB | Thiophanate-methyl.
OR-080035 | Callisto Herbicide | Mesotrione.
OR-100010 | Callisto Herbicide | Mesotrione.
SD-130008 | SC 547 Herbicide | Tembotrione and Thiencarbazone-methyl.
WA-090003 | Topsin M 70WP | Thiophanate-methyl.
WA-930026 | Rovral 4 Flowable Fungicide | Iprodione.
WA-940006 | Rovral 4 Flowable Fungicide | Iprodione.
WA-960027 | Rovral 4 Flowable Fungicide | Iprodione.
TX-100019 | Devrinol 50-DF Selective Herbicide | Napropamide.

Table 2—Product Registrations With Pending Requests for Amendment
Registration No. | Product name | Active ingredient | Uses to be deleted
524-475 | Roundup Ultra Herbicide | Glyphosate—isopropylammonium | Seed production of creeping bentgrass with a Roundup Ready Gene.

Table 3 of this unit includes the names and addresses of record for the registrants of the products listed in Table 1 and Table 2 of this unit, in sequence by EPA company number, which corresponds to the first part of the EPA product registration number under FIFRA section 3 (7 U.S.C. 136a), or by 24(c) number under FIFRA section 24(c) (7 U.S.C. 136v(c)), of the products listed in Tables 1 and 2 of this unit.

Table 3—Registrants Requesting Voluntary Cancellation and/or Amendments
EPA company No. | Company name and address
100, CA030012, OR080035, OR100010 | Syngenta Crop Protection, LLC., 410 Swing Road, P.O. Box 18300, Greensboro, NC 27419-8300.
524 | Monsanto Company, 1300 I Street NW., Suite 450 East, Washington, DC 20005-7211.
3525 | Qualco, Inc., 225 Passaic Street, Passaic, NJ 07055.
9198 | The Andersons Lawn Fertilizer Division, Inc., 521 Illinois Avenue, P.O. Box 119, Maumee, OH 43537.
10324 | Mason Chemical Company, 723 W. Algonquin Road, Suite B, Arlington Heights, IL 60005.
35935 | Nufarm Limited (Agent to Nufarm Americas, Inc.), 4020 Aerial Center Parkway, Suite 101, Morrisville, NC 27560.
53883 | Control Solutions, Inc., 5903 Genoa-Red Bluff Road, Pasadena, TX 77507-1041.
66222 | Makhteshim Agan of North America, Inc., 3120 Highwoods Blvd., Suite 100, Raleigh, NC 27604.
81002 | Splashes, Inc., 90 Boroline Road, Allendale, NJ 07401.
AZ080006, ND130003 | FMC Corp., 1735 Market Street, Room 1971, Philadelphia, PA 19103.
MA080001, TX100019 | United Phosphorus, Inc., 630 Freedom Business Center, Suite 402, King of Prussia, PA 19406.
ND 110002 | Gowan Company, P.O. Box 5569, Yuma, AZ 85366.
OR100003, WA090003 | Nippon Soda Co., Ltd., 88 Pine Street, 14th Floor, New York, NY 10005.
SD130008, WA930026, WA940006, WA960027 | Bayer Cropscience, LP, 2 T.W. Alexander Drive, P.O., Box 12014, Research Triangle Park, NC 27709.

III. What is the Agency's authority for taking this action?

Section 6(f)(1) of FIFRA (7 U.S.C. 136d(f)(1)) provides that a registrant of a pesticide product may at any time request that any of its pesticide registrations be canceled. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 3 of Unit II have not requested that EPA waive the 180-day comment period. Accordingly, EPA will provide a 180-day comment period on the proposed requests.

IV. Procedures for Withdrawal of Request

Registrants who choose to withdraw a request for cancellation should submit the withdrawal in writing to the person listed under FOR FURTHER INFORMATION CONTACT. If the product has been subject to a previous cancellation action, the effective date of cancellation and all other provisions of any earlier cancellation action are controlling.

V. Provisions for Disposition of Existing Stocks

A. Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products for 1 year after publication of the Cancellation Order in the Federal Register. Thereafter, registrants will be prohibited from selling or distributing the pesticides identified in Table 1 of Unit II., except for export consistent with FIFRA section 17 (7 U.S.C. 136o) or for proper disposal. Persons other than registrants will generally be allowed to sell, distribute, or use existing stocks until such stocks are exhausted, provided that such sale, distribution, or use is consistent with the terms of the previously approved labeling on, or that accompanied, the canceled products.

B. For the product identified in Table 2 of Unit II., in a letter dated October 22, 2015, the registrant states that the use to be deleted was never registered for use in any state, added to the master label, or used for its stated purpose. Therefore, because there are no existing stocks, EPA anticipates that no existing stocks provision to sell, distribute, or use existing stocks is needed for the registrant or persons other than the registrant.

Authority: 7 U.S.C. 136 et seq.

Dated: June 1, 2016.
Michael Goodis,
Acting Director, Pesticide Re-Evaluation Division, Office of Pesticide Programs.

[FR Doc. 2016-13581 Filed 6-7-16; 8:45 am]

BILLING CODE 6560-50-P